ELECTION ASSISTANCE COMMISSION

Voting System Manufacturer Registration, Application for Testing, Anomaly Reporting and Root Cause Analysis, Survey and Submission to OMB of Proposed Collection of Information

AGENCY: Election Assistance Commission.

ACTION: Notice; request for comment.

SUMMARY: In compliance with the Paperwork Reduction Act of 1995 (PRA), and as part of its continuing effort to reduce paperwork burdens, the U.S. Election Assistance Commission (EAC) gives notice that it is requesting from the Office of Management and Budget (OMB) approval for the extension of information collection of four Testing and Certification forms. OMB approval is requested for 3 years.

DATES: Comments should be submitted by 11:59pm on Monday, August 25, 2025.

ADDRESSES: Submission of Comments: Comments on the proposed Testing and Certification forms should be submitted electronically via https://www.regulations.gov (docket documents ID: EAC-2025-0001-0002, EAC-2025-0001-0003, EAC-2025-0001-0004, EAC-2025-0001-0004). Written comments on the proposed information collection can also be sent to the U.S. Election Assistance Commission, 633 3rd Street NW, Suite 200, Washington, DC 20001, Attn: Testing & Certification.

FOR FURTHER INFORMATION CONTACT: Paul Aumayr, Senior Election Technology Specialist, Testing and Certification Program, Washington DC (301)-563-3919. All requests and submissions should be identified by the title of the information collection.

SUPPLEMENTARY INFORMATION:

Titles and OMB Number: Manufacturer Registration, Application for Testing, Voting System Anomaly Reporting and Root Cause Analysis; OMB Number 3265-0024.

Purpose

Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party.

This proposed information collection was previously published in the Federal Register on Thursday, May 15, 2025, and allowed 60 days for public comment. The purpose of this Notice is to allow an additional 30 days for public comment from all interested individuals and organizations.

The EAC Testing and Certification Program assists state and local election officials by providing voting machine testing and certification. This program is a requirement of the Help America Vote Act (HAVA) of 2002, legislation that created the EAC and mandated that the Commission provide certification, decertification, and recertification of voting systems.

The program is seeking to extend the publishing of four forms. These are to be used to collect key information concerning voting system manufacturers and their systems, as well as information regarding anomalies in voting systems used in federal elections. These forms collect:

• The voting system manufacturer registration form collects information on the ownership, contact details for certain directors and senior staff, and the quality processes for manufacturers who wish to participate in the EAC's Testing and Certification program.

• The voting system application collects administrative information on new or modified voting systems that are being submitted for testing by a registered voting system manufacturer.

• The voting system anomaly report will collect initial anomaly information as reported by voting system manufacturers and election officials.

• The root cause analysis form collects information on voting system anomalies, test results, and findings.

This information is collected to improve the quality of voting systems used in federal elections.

Public Comments

The EAC is soliciting public comments to permit the EAC to:

• Evaluate whether the proposed information collection is necessary for the proper functions of the EAC's Testing and Certification Program.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Respondents: Voting System Manufacturers, and State and Local Election Officials.

Annual Reporting Burden

Annual Burden Estimates
| Instrument | Estimated number of respondents | Total number of responses per year | Average burden hours per response
Manufacturer Registration Form | 1 | 1 | 2 | 2
Voting System Certification Application Form | 5 | 5 | 2 | 10
Field Anomaly Reporting Form | 5 | 5 | 2 | 10
Voting System Root Cause Analysis | 5 | 5 | 30 | 150
Total |  | 26 |  | 172

Estimated Burden in hours—172 hours.

Estimated Burden cost—$14,876.

Seton Parsons,
Associate Counsel, U.S. Election Assistance Commission.

[FR Doc. 2025-13959 Filed 7-23-25; 8:45 am]

BILLING CODE 4810-71-P